DEPARTMENT OF HOMELAND SECURITY

Federal Emergency Management Agency

[Docket ID FEMA-2023-0001]

Major Disaster Declarations and Related Determinations: Expiration of COVID-19-Related Measures

AGENCY: Federal Emergency Management Agency, Department of Homeland Security.

ACTION: Notice; major disaster declarations.

SUMMARY: This notice amends the notices of major disaster declarations and related determinations resulting from the Coronavirus Disease 2019 (COVID-19) pandemic beginning on January 20, 2020.

FOR FURTHER INFORMATION CONTACT: Dean Webster, Office of Response and Recovery, Federal Emergency Management Agency, 500 C Street SW, Washington, DC 20472, dean.webster@fema.dhs.gov, (202) 646-2833.

SUPPLEMENTARY INFORMATION: Notice is hereby given that the incident period for all COVID-19 major disaster declarations and the nationwide emergency declaration will close effective May 11, 2023. Eligibility of work and costs reimbursable through Public Assistance funding will end on this date. The amendments to the COVID-19 major disaster declarations are as follows:

• Notice; New York; Amendment No. 12 to Notice of a Major Disaster Declaration; Docket ID FEMA-2022-0001; Internal Agency Docket No. FEMA-4480-DR.

• Notice; Washington; Amendment No. 9 to Notice of a Major Disaster Declaration; Docket ID FEMA-2022-0001; Internal Agency Docket No. FEMA-4481-DR.

• Notice; California; Amendment No. 9 to Notice of a Major Disaster Declaration; Docket ID FEMA-2022-0001; Internal Agency Docket No. FEMA-4482-DR.

• Notice; Iowa; Amendment No. 10 to Notice of a Major Disaster Declaration; Docket ID FEMA-2022-0001; Internal Agency Docket No. FEMA-4483-DR.

• Notice; Louisiana; Amendment No. 7 to Notice of a Major Disaster Declaration; Docket ID FEMA-2022-0001; Internal Agency Docket No. FEMA-4484-DR.

• Notice; Texas; Amendment No. 7 to Notice of a Major Disaster Declaration; Docket ID FEMA-2022-0001; Internal Agency Docket No. FEMA-4485-DR.

• Notice; Florida; Amendment No. 7 to Notice of a Major Disaster Declaration; Docket ID FEMA-2022-0001; Internal Agency Docket No. FEMA-4486-DR.

• Notice; North Carolina; Amendment No. 8 to Notice of a Major Disaster Declaration; Docket ID FEMA-2022-0001; Internal Agency Docket No. FEMA-4487-DR.

• Notice; New Jersey; Amendment No. 12 to Notice of a Major Disaster Declaration; Docket ID FEMA-2022-0001; Internal Agency Docket No. FEMA-4488-DR.

• Notice; Illinois; Amendment No. 11 to Notice of a Major Disaster Declaration; Docket ID FEMA-2022-0001; Internal Agency Docket No. FEMA-4489-DR.

• Notice; Missouri; Amendment No. 10 to Notice of a Major Disaster Declaration; Docket ID FEMA-2022-0001; Internal Agency Docket No. FEMA-4490-DR.

• Notice; Maryland; Amendment No. 10 to Notice of a Major Disaster Declaration; Docket ID FEMA-2022-0001; Internal Agency Docket No. FEMA-4491-DR.

• Notice; South Carolina; Amendment No. 8 to Notice of a Major Disaster Declaration; Docket ID FEMA-2022-0001; Internal Agency Docket No. FEMA-4492-DR.

• Notice; Puerto Rico; Amendment No. 13 to Notice of a Major Disaster Declaration; Docket ID FEMA-2022-0001; Internal Agency Docket No. FEMA-4493-DR.

• Notice; Michigan; Amendment No. 10 to Notice of a Major Disaster Declaration; Docket ID FEMA-2022-0001; Internal Agency Docket No. FEMA-4494-DR.

• Notice; Guam; Amendment No. 11 to Notice of a Major Disaster Declaration; Docket ID FEMA-2022-0001; Internal Agency Docket No. FEMA-4495-DR.

• Notice; Massachusetts; Amendment No. 9 to Notice of a Major Disaster Declaration; Docket ID FEMA-2022-0001; Internal Agency Docket No. FEMA-4496-DR.

• Notice; Kentucky; Amendment No. 8 to Notice of a Major Disaster Declaration; Docket ID FEMA-2022-0001; Internal Agency Docket No. FEMA-4497-DR.

• Notice; Colorado; Amendment No. 11 to Notice of a Major Disaster Declaration; Docket ID FEMA-2022-0001; Internal Agency Docket No. FEMA-4498-DR.

• Notice; Oregon; Amendment No. 10 to Notice of a Major Disaster Declaration; Docket ID FEMA-2022-0001; Internal Agency Docket No. FEMA-4499-DR.

• Notice; Connecticut; Amendment No. 10 to Notice of a Major Disaster Declaration; Docket ID FEMA-2022-0001; Internal Agency Docket No. FEMA-4500-DR.

• Notice; Georgia; Amendment No. 8 to Notice of a Major Disaster Declaration; Docket ID FEMA-2022-0001; Internal Agency Docket No. FEMA-4501-DR.

• Notice; District of Columbia; Amendment No. 10 to Notice of a Major Disaster Declaration; Docket ID FEMA-2022-0001; Internal Agency Docket No. FEMA-4502-DR.

• Notice; Alabama; Amendment No. 8 to Notice of a Major Disaster Declaration; Docket ID FEMA-2022-0001; Internal Agency Docket No. FEMA-4503-DR.

• Notice; Kansas; Amendment No. 10 to Notice of a Major Disaster Declaration; Docket ID FEMA-2022-0001; Internal Agency Docket No. FEMA-4504-DR.

• Notice; Rhode Island; Amendment No. 10 to Notice of a Major Disaster Declaration; Docket ID FEMA-2022-0001; Internal Agency Docket No. FEMA-4505-DR.

• Notice; Pennsylvania; Amendment No. 10 to Notice of a Major Disaster Declaration; Docket ID FEMA-2022-0001; Internal Agency Docket No. FEMA-4506-DR.

• Notice; Ohio; Amendment No. 11 to Notice of a Major Disaster Declaration; Docket ID FEMA-2022-0001; Internal Agency Docket No. FEMA-4507-DR.

• Notice; Montana; Amendment No. 11 to Notice of a Major Disaster Declaration; Docket ID FEMA-2022-0001; Internal Agency Docket No. FEMA-4508-DR.

• Notice; North Dakota; Amendment No. 11 to Notice of a Major Disaster Declaration; Docket ID FEMA-2022-0001; Internal Agency Docket No. FEMA-4509-DR.

• Notice; Hawaii; Amendment No. 10 to Notice of a Major Disaster Declaration; Docket ID FEMA-2022-0001; Internal Agency Docket No. FEMA-4510-DR.

• Notice; Commonwealth of the Northern Mariana Islands; Amendment No. 11 to Notice of a Major Disaster Declaration; Docket ID FEMA-2022-0001; Internal Agency Docket No. FEMA-4511-DR.

• Notice; Virginia; Amendment No. 10 to Notice of a Major Disaster Declaration; Docket ID FEMA-2022-0001; Internal Agency Docket No. FEMA-4512-DR.

• Notice; Virgin Islands; Amendment No. 13 to Notice of a Major Disaster Declaration; Docket ID FEMA-2022-0001; Internal Agency Docket No. FEMA-4513-DR.

• Notice; Tennessee; Amendment No. 8 to Notice of a Major Disaster Declaration; Docket ID FEMA-2022-0001; Internal Agency Docket No. FEMA-4514-DR.

• Notice; Indiana; Amendment No. 11 to Notice of a Major Disaster Declaration; Docket ID FEMA-2022-0001; Internal Agency Docket No. FEMA-4515-DR.

• Notice; New Hampshire; Amendment No. 10 to Notice of a Major Disaster Declaration; Docket ID FEMA-2022-0001; Internal Agency Docket No. FEMA-4516-DR.

• Notice; West Virginia; Amendment No. 10 to Notice of a Major Disaster Declaration; Docket ID FEMA-2022-0001; Internal Agency Docket No. FEMA-4517-DR.

• Notice; Arkansas; Amendment No. 8 to Notice of a Major Disaster Declaration; Docket ID FEMA-2022-0001; Internal Agency Docket No. FEMA-4518-DR.

• Notice; Wisconsin; Amendment No. 11 to Notice of a Major Disaster Declaration; Docket ID FEMA-2022-0001; Internal Agency Docket No. FEMA-4520-DR.

• Notice; Nebraska; Amendment No. 10 to Notice of a Major Disaster Declaration; Docket ID FEMA-2022-0001; Internal Agency Docket No. FEMA-4521-DR.

• Notice; Maine; Amendment No. 10 to Notice of a Major Disaster Declaration; Docket ID FEMA-2022-0001; Internal Agency Docket No. FEMA-4522-DR.

• Notice; Nevada; Amendment No. 10 to Notice of a Major Disaster Declaration; Docket ID FEMA-2022-0001; Internal Agency Docket No. FEMA-4523-DR.

• Notice; Arizona; Amendment No. 10 to Notice of a Major Disaster Declaration; Docket ID FEMA-2022-0001; Internal Agency Docket No. FEMA-4524-DR.

• Notice; Utah; Amendment No. 11 to Notice of a Major Disaster Declaration; Docket ID FEMA-2022-0001; Internal Agency Docket No. FEMA-4525-DR.

• Notice; Delaware; Amendment No. 10 to Notice of a Major Disaster Declaration; Docket ID FEMA-2022-0001; Internal Agency Docket No. FEMA-4526-DR.

• Notice; South Dakota; Amendment No. 11 to Notice of a Major Disaster Declaration; Docket ID FEMA-2022-0001; Internal Agency Docket No. FEMA-4527-DR.

• Notice; Mississippi; Amendment No. 8 to Notice of a Major Disaster Declaration; Docket ID FEMA-2022-0001; Internal Agency Docket No. FEMA-4528-DR.

• Notice; New Mexico; Amendment No. 8 to Notice of a Major Disaster Declaration; Docket ID FEMA-2022-0001; Internal Agency Docket No. FEMA-4529-DR.

• Notice; Oklahoma; Amendment No. 8 to Notice of a Major Disaster Declaration; Docket ID FEMA-2022-0001; Internal Agency Docket No. FEMA-4530-DR.

• Notice; Minnesota; Amendment No. 11 to Notice of a Major Disaster Declaration; Docket ID FEMA-2022-0001; Internal Agency Docket No. FEMA-4531-DR.

• Notice; Vermont; Amendment No. 10 to Notice of a Major Disaster Declaration; Docket ID FEMA-2022-0001; Internal Agency Docket No. FEMA-4532-DR.

• Notice; Alaska; Amendment No. 10 to Notice of a Major Disaster Declaration; Docket ID FEMA-2022-0001; Internal Agency Docket No. FEMA-4533-DR.

• Notice; Idaho; Amendment No. 10 to Notice of a Major Disaster Declaration; Docket ID FEMA-2022-0001; Internal Agency Docket No. FEMA-4534-DR.

• Notice; Wyoming; Amendment No. 11 to Notice of a Major Disaster Declaration; Docket ID FEMA-2022-0001; Internal Agency Docket No. FEMA-4535-DR.

• Notice; American Samoa; Amendment No. 9 to Notice of a Major Disaster Declaration; Docket ID FEMA-2022-0001; Internal Agency Docket No. FEMA-4537-DR.

• Notice; Seminole Tribe of Florida; Amendment No. 6 to Notice of a Major Disaster Declaration; Docket ID FEMA-2022-0001; Internal Agency Docket No. FEMA-4545-DR.

• Notice; Navajo Nation; Amendment No. 8 to Notice of a Major Disaster Declaration; Docket ID FEMA-2022-0001; Internal Agency Docket No. FEMA-4582-DR.

• Notice; Poarch Band of Creek Indians; Amendment No. 6 to Notice of a Major Disaster Declaration; Docket ID FEMA-2022-0001; Internal Agency Docket No. FEMA-4591-DR.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Deanne Criswell,
Administrator, Federal Emergency Management Agency.

[FR Doc. 2023-02964 Filed 2-9-23; 8:45 am]

BILLING CODE 9111-23-P